DEPARTMENT OF ENERGY

Federal Energy Regulatory Commission

[Docket No. EC03-122-000, et al.]

Sithe Energies, Inc., et al., Electric Rate and Corporate Filings

August 19, 2003.

The following filings have been made with the Commission. The filings are listed in ascending order within each docket classification.

1. Sithe Energies, Inc., Apollo Energy LLC, Exelon (Fossil) Holdings, Inc., Exelon Power Holdings, LP, Exelon SHC, Inc., ExRes SHC, Inc. Marubeni Corporation, National Energy Development Inc. and RCSE, LLC.

[Docket No. EC03-122-000]

Take notice that on August 11, 2003, Sithe Energies, Inc. (Sithe), Apollo Energy LLC (Apollo Energy), Exelon (Fossil) Holdings, Inc. (Exelon Fossil), Exelon Power Holdings, LP (Exelon Power), Exelon SHC, Inc. (Exelon SHC), ExRes SHC, Inc., (ExRes SHC), Marubeni Corporation (Marubeni), National Energy Development Inc. (NEDI) and RCSE, LLC (RCSE and collectively, the Applicants) filed with the Federal Energy Regulatory Commission an application pursuant to section 203 of the Federal Power Act for authorization of a disposition of jurisdictional facilities. The Applicants state that the disposition will occur through a three-step Transaction whereby Apollo, Marubeni and Exelon Power will effectively transfer all of their interests in Sithe to Exelon SHC, which in turn, will contribute its interest in Sithe to ExRes SHC. The Applicants further state that in the final step of the transaction, RCSE will purchase a fifty percent interest in ExRes SHC, making Sithe an indirect subsidiary equally owned by Exelon SHC and RCSE. Sithe states it is engaged primarily, through various subsidiaries, in the development and operation of non-utility generation facilities. Applicants state that the transaction will have no adverse effect on competition, rates or regulation.

Comment Date: September 2, 2003.

2. PSEG Energy Holdings L.L.C., PSEG Energy Technologies Inc., Quonset Point Cogen, L.P., DG Kingston LLC.

[Docket No. EC03-123-000]

Take notice that on August 14, 2003, pursuant to Section 203 of the Federal Power Act (FPA), 16 U.S.C. 824b (2000), and part 33 of the regulations of the Federal Energy Regulatory Commission (Commission), 18 CFR part 33, Quonset Point Cogen, L.P. (Quonset), and DG Kingston LLC (DG Kingston or Buyer) (collectively, the Applicants) respectfully request Commission approval to permit PSEG Energy Holdings L.L.C. (PSEG Holdings) to sell and Buyer to acquire 100 percent of the shares of PSEG Holdings’ wholly-owned subsidiary PSEG Energy Technologist Inc (PSEG ET). PSEG ET states that it currently owns 100 percent of the outstanding shares of 50 Belver Avenue Associates Corporation and QPC Corporation, the sole general and limited partners, respectively, of Quonset, a public utility subject to the Commission's jurisdiction under the FPA. The applicants state that the proposed transaction will result in DG Kingston indirectly acquiring control over Quonset's 7.5 MW gas-fired electric generating facility in Washington County, Rhode Island, as well as associated jurisdictional facilities, a wholesale power purchase agreement and Quonset's market-based rate schedule on file with the Commission.

DG Kingston states this is a new market entrant in New England that does not currently own or control generation or inputs to electric generation in the New England markets. The Applicants, therefore, request that Commission proceed in an expedited manner and issue an order granting this application by September 15, 2003 in order to facilitate closing of this transaction by September 20, 2003.

Comment Date: September 4, 2003.

3. Tenaska Virginia Partners, L.P.

[Docket No. EC03-124-000]

Take notice that on August 14, 2003, Tenaska Virginia Partners, L.P., 1044 North 115th Street, Suite 400, Omaha, Nebraska 68154 (Tenaska Virginia), tendered for filing with the Federal Energy Regulatory Commission (Commission) pursuant to Section 203 of the Federal Power Act and part 33 of the Commission's regulations, an Application for authorization to effect the transfer of a 30% indirect beneficial interest in Tenaska Virginia's Fluvanna County, Virginia electric generating project and the accompanying jurisdictional assets to affiliates of Harbert Power Corporation and The Northwestern Mutual Life Insurance Company.

Tenaska Viginia states that a copy of the filing was served on the Virginia State Corporation Commission.

Comment Date: September 4, 2003.

4. Cinergy Solutions Holding Company, Inc. Trigen Solutions, Inc.

[Docket No. EC03-125-000]

Take notice that on August 14, 2003, Cinergy Solutions Holding Company, Inc. (Cinergy Solutions) and Trigen Solutions, Inc. (Trigen, and collectively, Applicants) filed with the Federal Energy Regulatory Commission (Commission) an application pursuant to Section 203 of the Federal Power Act for authorization of a disposition of jurisdictional facilities whereby Trigen will transfer to Cinergy Solutions its indirect interests in a 35 megawatt electric generation facility located in St. Paul, Minnesota. Applicants state that the transaction will have no adverse effect on competition, rates or regulation.

Comment Date: September 4, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the eLibrary (FERRIS) link. Enter the docket number excluding the last three digits in the docket number field to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-22350 Filed 8-29-03; 8:45 am]

BILLING CODE 6717-01-P